INTERNATIONAL TRADE COMMISSION

[Investigation No. 332-515]

Actual Effects of the Free Trade Agreements With Chile, Australia, and Singapore

AGENCY: United States International Trade Commission.

ACTION: Institution of investigation.

SUMMARY: Following receipt of a request on April 13, 2010 from the United States Trade Representative (USTR) under section 332(g) of the Tariff Act of 1930 (19 U.S.C. 1332 (g)), the U.S. International Trade Commission (Commission) instituted investigation No. 332-515, Actual Effects of the Free Trade Agreements with Chile, Australia, and Singapore.

DATES: July 15, 2010: Deadline for filing written submissions. December 13, 2010: Transmittal of Commission report to the USTR.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at https://edis.usitc.gov/edis3-internal/app.

FOR FURTHER INFORMATION CONTACT: Project Leader Jennifer Baumert Powell (202-205-3450 or jennifer.powell@usitc.gov) or Deputy Project Leader Linda White (202-205-3427 or linda.white@usitc.gov) for information specific to this investigation. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: As requested by the USTR, the Commission will conduct an investigation and provide a report on the actual effects of the free trade agreements (FTAs) concluded with Chile, Singapore, and Australia. In its report the Commission will—

(1) With respect to each of the FTAs, and for certain goods for which the United States agreed to phase out its tariffs and other market barriers over an extended period of time, examine U.S. imports of these goods, identify any apparent anomalies in U.S. import levels, and discuss the possible causes for these anomalies; in identifying whether an import level is anomalous, the Commission will consider factors affecting such levels, such as tariff changes, trade changes in similar products, changes in trade of the same product with other trading partners, or other relevant indicators of trade flows;

(2) With respect to each of the FTAs, and for certain goods for which the other party agreed to phase out its tariffs and other market access barriers over an extended period of time, examine U.S. exports of these goods, identify any apparent anomalies in U.S. export levels, and indicate the possible causes for these anomalies, taking into account the factors identified above;

(3) Consider the existence of other apparently anomalous levels of U.S. exports to the other FTA party, e.g., where the immediate elimination of tariffs and significant market access barriers to trade in a particular product resulted in little or no increase in U.S. exports, or where U.S. exports increased significantly in tariff lines where little or no reduction in tariffs occurred as the result of the FTA; the Commission will identify such apparently anomalous situations and indicate the possible causes, to the extent possible, and if possible, will identify and examine unexpected results in the performance of U.S. services exports.

The USTR asked that the Commission deliver its report within eight months of receipt of the request (by December 13, 2010). The USTR indicated that the portions of the Commission's report and working papers that relate to the identification and possible causes of the apparent anomalies and anomalous situations will be classified as “confidential.” The USTR also stated that he considers the Commission's report to be an inter-agency memorandum that will contain pre-decisional advice and be subject to the deliberative process privilege.

Written Submissions: In lieu of a hearing, interested parties are invited to submit written statements concerning this investigation. All written submissions should be addressed to the Secretary, and should be received not later than 5:15 p.m., July 15, 2010. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook on Electronic Filing Procedures, http://www.usitc.gov/docket_services/documents/handbook_on_electronic_filing.pdf). Persons with questions regarding electronic filing should contact the Secretary (202-205-2000).

Any submissions that contain confidential business information (CBI) must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

Some or all of the CBI that the Commission receives in this investigation may be included in the report that the Commission sends to the USTR. However, any confidential business information received by the Commission in this investigation and used in preparing this report will not be published in a manner that would reveal the operations of the firm supplying the information.

Issued: May 13, 2010.
By order of the Commission.
Marilyn R. Abbott,
Secretary to the Commission.

[FR Doc. 2010-11971 Filed 5-18-10; 8:45 am]

BILLING CODE 7020-02-P